DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before January 18, 2022.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on December 7, 2021.
Donald P. Burger,
Chief, General Approvals and Permits Branch.

Application No. | Applicant | Regulation(s) affected | Nature of the special permits thereof
Special Permits Data—Granted
8215-M | Olin Winchester LLC | 172.320, 172.400, 173.212, 173.56(b), 173.62(c) | To modify the special permit to authorize an additional packaging type and an additional facility.
10776-M | Bevin Bros Manufacturing Company | 173.302a(a)(1), 173.304a(a)(1) | To modify the special permit to authorize additional hazardous materials.
11634-M | The Avon Company | 172.301(c), 173.24a(a)(3) | To modify the special permit to authorize a new proper shipping name to replace an obsolete proper shipping name in the special permit.
11646-M | Baker Petrolite LLC | 172.203(a), 172.301(c), 177.834(h) | To modify the special permit to authorize an additional hazardous material.
20493-M | Tesla, Inc | 172.101(j) | To modify the special permit to include additional cell types for use in the lithium ion battery.
21012-M | Linde Gas & Equipment Inc. | 172.203(a), 180.209 | To modify the special permit to remove the requirement for putting the SP number on shipping papers and to make it more consistent with similar special permits. (DOT-SP 15642, SP-14149)
21136-M | Cimarron Composites, LLC | 173.302(a)(1) | To modify the special permit to remove references to insulated tubes.
21144-M | Consolidated Nuclear Security LLC | 173.56(b) | To modify the special permit to increase the maximum quantity per shipment to 3,025 gallons.
21268-N | Watco Companies, LLC | 174.85 | To authorize the transportation in commerce of hazardous materials by rail with one buffer car between placarded cars and the engines.
21269-N | Porsche Logistik Gmbh | 172.101(j) | To authorize the transportation in commerce of certain lithium ion battery assemblies each with a net weight exceeding 35 kg aboard cargo-only aircraft.
21282-N | The Boeing Company | 178.47 | To authorize the transportation in commerce of DOT 4DS cylinders that have not been tested as required by 49 CFR 178.47.
Special Permits Data—Denied
21069-M | Catalina Cylinders, Inc | 173.302a, 178.71(l)(1) | To modify the special permit to authorize an additional requalification test method (pneumatic proof pressure).
21184-N | Arkema Inc | 177.834(h) | To authorize the transportation in commerce of organic peroxide Type F material in UN IBCs without unloading the package from the vehicle prior to discharge.
Special Permits Data—Withdrawn
9998-M | Accumulators, Inc | 173.302(a) | To modify the special permit to authorize additional accumulator designs.

[FR Doc. 2021-27184 Filed 12-15-21; 8:45 am]

BILLING CODE 4909-60-P